NATIONAL SCIENCE FOUNDATION

Advisory Committee for Computer and Information Science and Engineering; Notice of Meeting

In accordance with the Federal Advisory Committee Act (Pub. L. 92-463, as amended), the National Science Foundation (NSF) announces the following meeting:

Name and Committee Code: Advisory Committee for Computer and Information Science and Engineering (#1115) (Hybrid).

Date and Time: December 11, 2024—12 p.m.-5 p.m. (eastern), December 12, 2024—9 a.m.-1 p.m. (eastern).

Place: NSF, 2415 Eisenhower Avenue, Room 3430, Alexandria, VA 22314 (In-Person and Virtual).

To attend the meeting virtually, please send your request for the virtual meeting link to the following email: ciseac@nsf.gov.

Type of Meeting: Open.

Contact Persons: KaJuana Mayberry, National Science Foundation, 2415 Eisenhower Avenue, Alexandria, VA 22314; Telephone:703-292-8900; email: ciseac@nsf.gov.

Purpose of Meeting: To provide advice, recommendations, and counsel on major goals and policies pertaining to Computer and Information Science and Engineering programs and activities.

Agenda:

• CISE update

• CISE AC subgroup update

• NSF quantum activities

• NSF research security activities

Dated: November 14, 2024.
Crystal Robinson,
Committee Management Officer.

[FR Doc. 2024-27056 Filed 11-19-24; 8:45 am]

BILLING CODE 7555-01-P